DEPARTMENT OF THE INTERIOR

Bureau of Land Management

[LLCO-923000.L1440000.ET0000; COC-25845-01]

Public Land Order No. 7937; Withdrawal of Public Lands for McPhee Dam and Reservoir, Dolores Project, Colorado

AGENCY: Bureau of Land Management, Interior.

ACTION: Public Land Order.

SUMMARY: This Public Land Order (PLO) withdraws 953.06 acres of public lands from settlement, sale, location, or entry under the general land laws, including from location and entry under the United States mining laws, and 309.56 acres of National Forest System lands from location and entry under the U.S. mining laws, and reserves them for use by the Bureau of Reclamation in connection with the McPhee Dam and Reservoir, for a period of 100 years, subject to valid existing rights.

DATES: This public land order takes effect on March 15, 2024.

ADDRESSES: Information regarding the withdrawal, including environmental and other reviews, is available at the Bureau of Land Management Colorado State Office, Denver Federal Center Building 40, Lakewood, Colorado 80215.

FOR FURTHER INFORMATION CONTACT: Jennifer Jardine, Senior Realty Specialist, BLM Colorado State Office, telephone: (970) 385-1224; email: jjardine@blm.gov. Individuals in the United States who are deaf, deafblind, hard of hearing, or have a speech disability may dial 711 (TTY, TDD, or TeleBraille) to access telecommunications relay services for contacting Ms. Jardine. Individuals outside the United States should use the relay services offered within their country to make international calls to the point-of-contact in the United States

SUPPLEMENTARY INFORMATION: The McPhee Dam and Reservoir was previously withdrawn by PLO No. 5811, effective January 22, 1981, as extended by PLO No. 7473, which expired on January 21, 2021. A new notice of withdrawal application was published in the Federal Register on August 2, 2021 (86 FR 41507). The purpose of this withdrawal is to reserve the lands for the protection of the McPhee Dam and Reservoir, Dolores Project, and associated capital investments.

Order

By virtue of the authority vested in the Secretary of the Interior by Section 204 of the Federal Land Policy and Management Act of 1976, 43 U.S.C. 1714, it is ordered as follows:

1. Subject to valid existing rights, the following described public lands are hereby withdrawn from settlement, sale, location and entry under the general land laws, including from location and entry under the United States mining laws, and 309.56 acres of National Forest System lands from location and entry under the United States mining laws, and reserved for use by the Bureau of Reclamation in connection with the McPhee Dam and Reservoir, for a period of 100 years.

Public Lands

New Mexico Principal Meridian, Colorado

T. 38 N, R. 15 W,

Sec. 18, lots 2 and 3, and NE¼SW¼;

Sec. 19, SE¼NW¼ and NE¼SW¼.

T. 38 N, R. 16 W,

Sec. 2, lots 1 thru 4;

Sec. 11, S½NE¼ and S½NW¼;

Sec. 12, SW¼NE¼, S½NW¼, N½SW¼, SW¼SW¼, N½SE¼, and SE¼SE¼;

Sec. 13, W½NW¼.

The areas aggregate 953.06 acres.

San Juan National Forest

New Mexico Principal Meridian, Colorado

T. 38 N., R. 15 W.,

Sec. 3, lot 2, E½NE¼SE¼, SW¼NE¼SE¼, and SW¼SE¼;

Sec. 7, S½NE¼ and E½SE¼;

Sec. 28, NW¼SW¼.

The areas aggregate 309.56 acres.

The total area contains 1,262.62 acres.

2. The withdrawal made by this order does not alter the applicability of those laws governing the use of National Forest System lands under lease, license, or permit, or governing the disposal of the mineral or vegetative resources other than the United States mining laws.

3. This withdrawal will expire 100 years from the effective date of this order, unless, as a result of a review conducted before the expiration date pursuant to Section 204(f) of the Federal Land Policy and Management Act of 1976, 43 U.S.C 1714(f), the Secretary determines that the withdrawal shall be extended.

(Authority: 43 U.S.C. 1714)

Robert T. Anderson,
Solicitor.

[FR Doc. 2024-05506 Filed 3-14-24; 8:45 am]

BILLING CODE 4322-90-P